DEPARTMENT OF COMMERCE

International Trade Administration

[A-428-821]

Large Newspaper Printing Presses and Components Thereof, Whether Assembled or Unassembled, from Germany: Preliminary Results and Rescission in Part of Antidumping Duty Administrative Reviews and Final Determinations of Scope Inquiries

AGENCY: Import Administration, International Trade Administration, Department of Commerce.

ACTION: Notice of preliminary results of antidumping duty administrative reviews.

SUMMARY: In response to requests by the respondent MAN Roland Druckmaschinen AG and the petitioner Goss Graphic Systems, Inc., the Department of Commerce is conducting administrative reviews of the antidumping duty order on large newspaper printing presses and components thereof, whether assembled or unassembled, from Germany. These reviews cover MAN Roland Druckmaschinen AG and Koenig & Bauer AG, manufacturers/exporters of the subject merchandise to the United States. The periods of review for Koenig & Bauer AG are September 1, 1997, through August 31, 1998, and September 1, 1998, through August 31, 1999. The period of review for MAN Roland Druckmaschinen AG is September 1, 1998, through August 31, 1999.

We preliminarily determine that sales have not been made below normal value for MAN Roland Druckmaschinen AG. If these preliminary results are adopted in our final results of administrative review, we will instruct the Customs Service not to assess antidumping duties on all appropriate entries. Interested parties are invited to comment on these preliminary results.

In accordance with 19 CFR 351.213(d)(3), the Department of Commerce is rescinding these reviews in part as to Koenig & Bauer AG because we verified that it made no sales or shipments of subject merchandise during the review periods. In addition, we determine that certain LNPP parts imported by KBA North America Inc. Web Press Division from Germany during the period 1998 through 1999, pursuant to contracts for the sale of LNPP systems to Dayton Newspapers, Inc. and Fayetteville Publishing Company, are outside the scope of the order.

EFFECTIVE DATE: October 19, 2000.

FOR FURTHER INFORMATION CONTACT: David J. Goldberger, Barbara Wojcik-Betancourt, or Kate Johnson, Office 2, AD/CVD Enforcement Group I, Import Administration-Room B099, International Trade Administration, U.S. Department of Commerce, 14th Street and Constitution Avenue, NW., Washington, DC 20230; telephone: (202) 482-4136, 482-0629, or 482-4929, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (April 1999).

Background

On July 23, 1996, the Department published in the Federal Register, 61 FR 38166, the final affirmative antidumping duty determination on large newspaper printing presses and components thereof, whether assembled or unassembled (LNPP), from Germany. We published an antidumping duty order on September 4, 1996 (61 FR 46623).

On July 21, 1997, the Department published Scope Inquiry Instructions and Revision of Suspension of Liquidation Procedures for Entries of LNPP Elements Outside the Scope of the Antidumping Duty Order, 62 FR 38975 (Scope Inquiry Instructions).

During 1997, 1998, and 1999, KBA North America Inc. Web Press Division (KBA NA), an importer of LNPP elements (i.e., parts and subcomponents) from Germany, filed several scope inquiries pursuant to the procedures the Department developed subsequent to the issuance of the antidumping duty order (see Scope Inquiry Instructions, 62 FR at 38975).

On September 30, 1998, Goss Graphic Systems, Inc. (the petitioner) requested that the Department defer for one year the initiation of its review of entries by Koenig & Bauer AG (KBA) subject to the above-referenced order covering the period September 1, 1997, to August 31, 1998. On October 29, 1998, we granted the petitioner's request and deferred this review accordingly. See Initiation of Antidumping Duty and Countervailing Duty Administrative Reviews, Requests for Revocation in Part, and Deferral of Administrative Reviews, 63 FR 58009 (October 29, 1998).

On September 9, 1999, the Department published in the Federal Register a notice advising of the opportunity to request an administrative review of this order for the period September 1, 1998, through August 31, 1999 (64 FR 48980). The Department received requests for an administrative review of KBA ¹ and MAN Roland Druckmaschinen AG and its U.S. affiliate MAN Roland Inc. (collectively MAN Roland). We published a notice of initiation of these reviews, including the deferred review, on November 4, 1999 (64 FR 60161).

¹ The administrative review of KBA includes the period September 1, 1998-August 31, 1999, as well as the deferred period September 1, 1997-August 31, 1998.

On November 24, 1999, we issued an antidumping questionnaire to the two respondents. We received responses during the period December 1999 through January 2000. We issued supplemental questionnaires in March, April and June 2000. We received responses during the period April through July 2000.

On March 13, 2000, the Department extended the time limit for the preliminary results in these reviews until September 29, 2000. See Postponement of Preliminary Results of Antidumping Duty Administrative Reviews, 65 FR 13364.

On June 1 and 2, 2000, the petitioner alleged, based on shipment manifest data, that KBA NA may have failed to report all of its German parts importations for its U.S. press sales that were the subject of several scope inquiry requests in 1997, 1998, and 1999. Specifically, it alleged that KBA NA may have imported printing units of German origin, but never requested a scope ruling for these parts prior to importation. The petitioner requested that the Department send a supplemental questionnaire soliciting additional information on this issue.

On June 6, 2000, KBA responded to the petitioner's allegations arguing that the merchandise at issue was not of German origin. On June 14, 2000, we issued a supplemental questionnaire to KBA NA soliciting additional information on this topic. We received a response to this supplemental questionnaire on June 21, 2000.

The Department conducted verification of KBA's responses during the period June 26 through August 4, 2000, pursuant to section 782(i) of the Act. In August and September 2000, the Department issued its verification reports.

Scope of the Reviews

The products covered by these reviews are large newspaper printing presses, including press systems, press additions and press components, whether assembled or unassembled, whether complete or incomplete, that are capable of printing or otherwise manipulating a roll of paper more than two pages across. A page is defined as a newspaper broadsheet page in which the lines of type are printed perpendicular to the running of the direction of the paper or a newspaper tabloid page with lines of type parallel to the running of the direction of the paper.

In addition to press systems, the scope of these reviews includes the five press system components. They are: (1) A printing unit, which is any component that prints in monocolor, spot color and/or process (full) color; (2) a reel tension paster (RTP), which is any component that feeds a roll of paper more than two newspaper broadsheet pages in width into a subject printing unit; (3) a folder, which is a module or combination of modules capable of cutting, folding, and/or delivering the paper from a roll or rolls of newspaper broadsheet paper more than two pages in width into a newspaper format; (4) conveyance and access apparatus capable of manipulating a roll of paper more than two newspaper broadsheet pages across through the production process and which provides structural support and access; and (5) a computerized control system, which is any computer equipment and/or software designed specifically to control, monitor, adjust, and coordinate the functions and operations of large newspaper printing presses or press components.

A press addition is comprised of a union of one or more of the press components defined above and the equipment necessary to integrate such components into an existing press system.

Because of their size, large newspaper printing press systems, press additions, and press components are typically shipped either partially assembled or unassembled, complete or incomplete, and are assembled and/or completed prior to and/or during the installation process in the United States. Any of the five components, or collection of components, the use of which is to fulfill a contract for large newspaper printing press systems, press additions, or press components, regardless of degree of assembly and/or degree of combination with non-subject elements before or after importation, is included in the scope of these reviews. Also included in the scope are elements of a LNPP system, addition or component, which taken altogether, constitute at least 50 percent of the cost of manufacture of any of the five major LNPP components of which they are a part.

For purposes of these reviews, the following definitions apply irrespective of any different definition that may be found in Customs rulings, U.S. Customs law or the Harmonized Tariff Schedule of the United States (HTSUS): the term “unassembled” means fully or partially unassembled or disassembled; and (2) the term “incomplete” means lacking one or more elements with which the LNPP is intended to be equipped in order to fulfill a contract for a LNPP system, addition or component.

This scope does not cover spare or replacement parts. Spare or replacement parts imported pursuant to a LNPP contract, which are not integral to the original start-up and operation of the LNPP, and are separately identified and valued in a LNPP contract, whether or not shipped in combination with covered merchandise, are excluded from the scope of these reviews. Used presses are also not subject to this scope. Used presses are those that have been previously sold in an arm's-length transaction to a purchaser that used them to produce newspapers in the ordinary course of business.

Further, these reviews cover all current and future printing technologies capable of printing newspapers, including, but not limited to, lithographic (offset or direct), flexographic, and letterpress systems. The products covered by these reviews are imported into the United States under subheadings 8443.11.10, 8443.11.50, 8443.30.00, 8443.59.50, 8443.60.00, and 8443.90.50 of the HTSUS. Large newspaper printing presses may also enter under HTSUS subheadings 8443.21.00 and 8443.40.00. Large newspaper printing press computerized control systems may enter under HTSUS subheadings 8471.49.10, 8471.49.21, 8471.49.26, 8471.50.40, 8471.50.80, and 8537.10.90. Although the HTSUS subheadings are provided for convenience and customs purposes, our written description of the scope of these reviews is dispositive.

Final Scope Rulings for KBA NA

In separate preliminary scope inquiry segments of the proceeding, the Department preliminarily determined, pursuant to the special procedures developed subsequent to the issuance of the antidumping duty order (see Scope Inquiry Instructions, 62 FR at 38975), that various LNPP parts or subcomponents for the production of a LNPP system sold to Dayton Newspapers, Inc. and to Fayetteville Publishing Company were found to be outside the scope of the order, and subsequently instructed the Customs Service to suspend preliminarily liquidation of these parts or subcomponents at a zero deposit rate.² The Department stated in its preliminary scope ruling memoranda that it would make final determinations with respect to KBA's LNPP parts importations in the context of an administrative review, if one was requested, for a period which captured entries of the merchandise at issue and the completion (i.e., production, assembly and installation) of the LNPP components of which they are a part. Thus, the Department determined, in the context of these administrative reviews, that various LNPP parts or subcomponents for the production of a LNPP system sold to Dayton Newspapers, Inc. and to Fayetteville Publishing Company are outside the scope of the order because, when taken altogether, they constitute less than 50 percent of the cost of manufacture of the major LNPP components of which they are a part. With respect to petitioner's allegation that KBA NA may have inported printing units of German origin, we verified that these printing units were not of German origin. See Memorandum From Peter Scholl and Laurens van Houten to Neal Halper on Verification of the Cost of Manufacturing of Koenig and Bauer Mödling-Mödling, Austria, dated September 15, 2000. For complete analysis, see Recommendation Memorandum—Final Ruling on Requests by KBA NA for Exclusion of Certain LNPP Parts from the Scope of the Antidumping Duty Order on Large Newspaper Printing Presses and Components Thereof, Whether Assembled or Unassembled, from Germany, dated September 29, 2000.

² See Memoranda From The Team to Richard Moreland dated December 22, 1997, and January 27, 1998; Memoranda From The Team to Maria H. Tildon dated June 17, 1998, and August 4, 1998; Memoranda From The Team To Holly A. Kuga dated December 30, 1998, January 14, 1999, and February 1, 1999.

Recission in Part of Reviews

In its December 22, 1999, Section A questionnaire response, KBA stated that KBA NA did not import and KBA did not export subject merchandise to the United States during the periods of review. The Department verified that neither KBA nor KBA NA made sales or shipments of subject merchandise during the review periods. (See Memorandum For The File From Barbara Wojcik-Betancourt and Kate Johnson on Verification of the Questionnaire Responses of Koenig & Bauer AG and KBA North America Inc. Web Press Division in the Antidumping Duty Administrative Review of Large Newspaper Printing Presses and Components Thereof, Whether Assembled of Unassembled, from Germany, dated August 25, 2000 at pages 6-8). Therefore, in accordance with 19 CFR 351.213(d)(3), we are rescinding in part these reviews of the antidumping duty order on LNPPs from Germany with respect to KBA.

Product Comparisons

Although MAN Roland's home market was viable, in accordance with section 773 of the Act and our normal practice in this proceeding and in the companion proceeding involving Japan, we based normal value on constructed value because we determined that, even though the general product characteristics of LNPP systems are comparable enough for them to be considered a foreign like product, the physical differences in the sub-component specifications between LNPPs sold in the United States and the home market are so great that meaningful price-to-price comparisons cannot be made. See Large Newspaper Printing Presses and Components Thereof, Whether Assembled or Unassembled, from Japan: Preliminary Results of Antidumping Duty Administrative Reviews, 64 FR 55243, 55245 (October 12, 1999), followed in Large Newspaper Printing Presses and Components Thereof, Whether Assembled or Unassembled, from Japan: Final Results of Antidumping Duty Administrative Review and Partial Rescission of Administrative Reviews, 65 FR 7492, 7495 (February 15, 2000) and Notice of Preliminary Determination of Sales at Less Than Fair Value and Postponement of Final Determination: Large Newspaper Printing Presses and Components Thereof: Whether Assembled or Unassembled, from Germany, 61 FR 8035, 8037 (March 1, 1996), followed in Notice of Final Determination of Sales at Less Than Fair Value: Large Newspaper Printing Presses and Components Thereof, Whether Assembled or Unassembled, from Germany, 61 FR 38166 (July 23, 1996) (Final Determination).

Home Market Sales Used To Calculate Constructed Value Profit and Selling Expenses

On June 23, 2000, the petitioner submitted a letter stating that Mitsubishi Heavy Industries, Inc. (MHI), a respondent in the companion Japan case, did not report home market sales that are contemporaneous with the date of its U.S. sale. On June 30, 2000, we asked MHI to report additional home market sales to the Department. Because this issue is not limited to MHI alone, we also requested additional home market sales from MAN Roland and from Tokyo Kikai Seisakusho, Ltd., the other respondent in the companion Japan case.

Upon analysis of the home market sales on the record for MAN Roland as well as the respondents in the companion Japan case, we determined that the appropriate universe of home market sales used to calculate constructed value profit and selling expenses should comprise all sales made during the period beginning with three months prior to the respondent's U.S. sale (June 1997),³ and then the nine subsequent months, including the month of sale (March 1, 1997-February 28, 1998). See the September 29, 2000, memorandum from the team to Richard W. Moreland on Universe of Home Market Sales Used to Calculate Profit and Selling Expenses for Constructed Value for further discussion.

³ Each of the respondents in the Japan administrative review and MAN Roland in the Germany administrative review shipped/entered only one LNPP into the United States during the POR that was completely assembled and installed.

Normal Value Comparisons

To determine whether MAN Roland's sale of a LNPP to the United States was made at less than normal value, we compared constructed export price (CEP) to the normal value, as described below.

Constructed Export Price and Further Manufacturing

MAN Roland

We calculated CEP, in accordance with sections 772(b), (c) and (d) of the Act, for MAN Roland's period of review (POR) sale because the contract governing the U.S. sale was executed in the United States by MAN Roland's affiliated U.S. sales agent and the affiliated U.S. sales agent coordinated rigging and installation support, which we have classified as further manufacturing.

We calculated CEP based on the packed, installed price to an unaffiliated customer in the United States. We made deductions for the following charges: foreign inland freight charges; combined German inland insurance, marine insurance and U.S. inland insurance expenses; German handling, ocean freight, U.S. handling and U.S. inland freight expenses; U.S. brokerage; and U.S. Customs duty (including harbor maintenance and merchandise processing fees). Although MAN Roland reported international movement expenses in U.S. dollars, a review of source documents indicated that the expenses were actually incurred in German currency. Accordingly, we used the expenses incurred in German currency for purposes of the preliminary results. We also made deductions for commissions, imputed credit, warranty, direct training expenses, and other direct selling expenses. We deducted further those indirect selling expenses that related to economic activity in the United States.

In addition, we deducted the cost of further manufacturing or assembly, including installation expenses. We classified installation charges as part of further manufacturing, because the U.S. installation process involves extensive technical activities on the part of engineers and installation supervisors. See Mitsubishi Heavy Industries v. United States, 15 F. Supp. 2d 807, 815-17 (CIT 1998) (Mitsubishi).

Further, we made an adjustment for CEP profit in accordance with section 772(d)(3) of the Act.

Cost of Production (COP) Analysis

The Department disregarded certain sales made by MAN Roland during the less-than-fair-value (LTFV) investigation pursuant to the results of a cost test. Thus, in accordance with section 773(b)(2)(A)(ii) of the Act, there are reasonable grounds to believe or suspect that MAN Roland made sales in the home market at prices below the cost of producing the merchandise in the current review period. As a result, the Department initiated an investigation to determine whether MAN Roland made home market sales during the POR at prices below its COP within the meaning of section 773(b) of the Act.

We compared the COP figures to home market sales of the foreign like product, as required under section 773(b) of the Act, in order to determine whether these sales were made at prices below the COP. In determining whether to disregard home market sales made at prices below the COP, we examined whether: (1) within an extended period of time, such sales were made in substantial quantities; and (2) such sales were made at prices which permitted the recovery of all costs within a reasonable period of time.

The results of our cost test for MAN Roland indicated that certain home market sales were at prices below COP within an extended period of time, were made in substantial quantities, and would not permit the full recovery of all costs within a reasonable period of time. In accordance with section 773(b)(1) of the Act, we therefore excluded from our analysis the sales that failed the cost test and used the remaining above-cost sales as the basis for determining selling expenses and profit.

Normal Value

Constructed Value

MAN Roland

In accordance with section 773(e) of the Act, we calculated constructed value based on the sum of MAN Roland's cost of materials, fabrication, selling, general and administrative (SG&A) expenses and U.S. packing costs as reported in the U.S. sales database. In accordance with section 773(e)(2)(A), we based SG&A and profit on the amounts incurred and realized by MAN Roland in connection with the production and sale of the foreign like product in the ordinary course of trade, for consumption in the home market.

In accordance with section 773(e)(3) of the Act, we added the U.S. packing costs to a constructed value net of packing.

Price-to-Constructed Value Comparison

For the CEP to constructed value comparison, we deducted from constructed value the weighted-average home market imputed credit expenses, pursuant to section 773(a)(8) of the Act. We imputed credit expenses for constructed value using the weighted-average, German-currency-based, short-term interest rate reported for the POR, since home market sales were denominated in German currency.

Level of Trade and CEP Offset

In accordance with section 773(a)(1)(B) of the Act, to the extent practicable, we determine normal value based on sales in the comparison market at the same level of trade (LOT) as the export price or CEP transaction. The normal value LOT is that of the starting-price sales in the comparison market or, when normal value is based on constructed value, as is the case in these reviews, that of the sales from which we derive SG&A expenses and profit. For export price, the U.S. LOT is also the level of the starting-price sale, which is usually from the exporter to an unaffiliated U.S. customer. For CEP, it is the level of the constructed sale from the exporter to an affiliated importer, after the deductions required under section 772(d) of the Act.

To determine whether normal value sales are at a different LOT than export price or CEP sales, we examine stages in the marketing process and selling functions along the chain of distribution between the producer and the unaffiliated customer. If the comparison-market sales are at a different LOT, and the difference in LOT involves the performance of different selling activities and is demonstrated to affect price comparability, as manifested in a pattern of consistent price differences between the sales on which normal value is based and comparison-market sales at the LOT of the export transaction, we make an LOT adjustment under section 773(a)(7)(A) of the Act. For CEP sales, if the normal value level is more remote from the factory than the CEP level and there is no basis for determining whether the difference in the levels between normal value and CEP affects price comparability, we adjust normal value under section 773(a)(7)(B) of the Act (the CEP offset provision). The CEP offset is calculated as the lesser of the following:

1. The indirect selling expenses on the comparison market sale, or

2. The indirect selling expenses deducted from the starting price in calculating CEP. See Notice of Final Determination of Sales of Less Than Fair Value: Certain Cut-to-Length Carbon Steel Plate from South Africa, 62 FR 61731 (November 19, 1997).

We note that the U.S. Court of International Trade (CIT) has held that the Department's practice of determining LOTs for CEP transactions after CEP deductions is an impermissible interpretation of section 772(d) of the Act. See Borden, Inc. v. United States, 4 F. Supp. 2d 1221, 1241-42 (CIT 1998) (Borden). The Department believes, however, that its practice is in full compliance with the statute. On June 4, 1999, the CIT entered final judgement in Borden on the LOT issue. See Borden Inc. v. United States, Court No. 96-08-01970, Slip Op. 99-50 (CIT June 4, 1999). The government has filed an appeal of Borden which is pending before the U.S. Court of Appeals for the Federal Circuit. Consequently, the Department has continued to follow its normal practice of adjusting CEP under section 772(d) prior to starting a LOT analysis, as articulated by the Department's regulations at section 351.412.

In its questionnaire response, MAN Roland reported that sales to the unaffiliated customers were made at the same level of trade in both the United States and the home market. However, MAN Roland contends that, in the event that the Department classifies its U.S. sale as a CEP sale, then a LOT adjustment is appropriate to account for the differences between the actual LOT of the home market sales and the constructed LOT of the U.S. sale.

As discussed above, we have determined that MAN Roland's U.S. sale under review is properly classified as a CEP sale. To determine whether sales in the comparison market were at a different LOT than CEP sales, we normally examine the selling functions performed at the CEP level, after making the appropriate deductions under section 772(d) of the Act, and compare those selling functions to the selling functions performed in the home market LOT. However, despite our requests, MAN Roland did not submit sufficient information pertaining to selling functions in the U.S. market for purposes of this review. Accordingly, we were unable to perform a LOT analysis on MAN Roland's sales. Therefore, we did not make a LOT adjustment to normal value.

Currency Conversion

We made a currency conversion, in accordance with section 773A(a) of the Act, based on the official exchange rate in effect on the date of the U.S. sale as certified by the Federal Reserve Bank of New York.

Preliminary Results of Review

As a result of these reviews, we preliminarily determine that the weighted-average dumping margin for the 1998-1999 POR is:

Manufacturer/exporter | Period | Margin
MAN Roland | 9/1/98-8/31/99 | 0.00

We will disclose the calculations used in our analysis to parties to this proceeding within five days of the publication date of this notice. See 19 CFR 351.224(b). Any interested party may request a hearing within 30 days of publication. See 19 CFR 351.310(c). If requested, a hearing will be held 44 days after the publication of this notice, or the first workday thereafter.

Issues raised in the hearing will be limited to those raised in the respective case briefs and rebuttal briefs. See 19 CFR 351.310(c). Case briefs from interested parties and rebuttal briefs, limited to the issues raised in the respective case briefs, may be submitted not later than 30 days and 35 days, respectively, from the date of publication of these preliminary results. See 19 CFR 351.309(c) and (d). Parties who submit case briefs or rebuttal briefs in this proceeding are requested to submit with each argument (1) a statement of the issue and (2) a brief summary of the argument. Parties are also encouraged to provide a summary of the arguments not to exceed five pages and a table of statutes, regulations, and cases cited.

The Department will issue the final results of these administrative reviews, including the results of its analysis of issues raised in any written briefs or at the hearing, if held, not later than 120 days after the date of publication of this notice.

Interested parties who wish to request a hearing or to participate if one is requested, must submit a written request to the Assistant Secretary for Import Administration, Room B-099, within 30 days of the date of publication of this notice. Requests should contain: (1) The party's name, address and telephone number; (2) the number of participants; and (3) a list of issues to be discussed.

Assessment Rates

Upon completion of this administrative review, the Department shall determine, and the Customs Service shall assess, antidumping duties on all appropriate entries. The Department will issue appropriate appraisement instructions directly to the Customs Service upon completion of these reviews. The final results of these reviews shall be the basis for the assessment of antidumping duties on entries of merchandise covered by the final results of these reviews and for future deposits of estimated duties. Pursuant to 19 CFR 351.106(c)(2), we will instruct the Customs Service to liquidate without regard to antidumping duties all entries for any importer for whom the assessment rate is de minimis (i.e., less than 0.50 percent). For assessment purposes, we intend to calculate an importer-specific assessment rate for the subject merchandise by dividing the dumping margin calculated for the U.S. sale examined by the total entered value of the sale examined.

With regard to KBA NA's entries of LNPP parts in 1998 and 1999 pursuant to contracts for the sale of LNPPs to Dayton Newspapers Inc. and Fayetteville Publishing Company, which were determined to be outside the scope of the order, we will instruct the Customs Service to liquidate these entries without regard to antidumping duties.

This notice also serves as a preliminary reminder to importers of their responsibility under 19 CFR 351.402(f)(2) to file a certificate regarding the reimbursement of antidumping duties prior to liquidation of the relevant entries during these review periods. Failure to comply with this requirement could result in the Secretary's presumption that reimbursement of antidumping duties occurred and the subsequent assessment of double antidumping duties.

Cash Deposit Requirements

The following cash deposit requirements will be effective for all shipments of the subject merchandise entered, or withdrawn from warehouse, for consumption on or after the publication date of the final results of these administrative reviews, as provided by section 751(a)(1) of the Act: (1) The cash deposit rate for the reviewed company (MAN Roland) will be that established in the final results of these reviews, except if the rate is less than 0.50 percent, and therefore, de minimis within the meaning of 19 CFR 351.106(c)(1), in which case the cash deposit rate will be zero; (2) for previously reviewed or investigated companies not listed above, the cash deposit rate will continue to be the company-specific rate published for the most recent period; (3) if the exporter is not a firm covered in these reviews, a prior review, or the original LTFV investigation, but the manufacturer is, the cash deposit rate will be the rate established for the most recent period for the manufacturer of the merchandise; and (4) the cash deposit rate for all other manufacturers or exporters will continue to be 30.72 percent, the “All Others” rate made effective by the LTFV investigation. These requirements, when imposed, shall remain in effect until publication of the final results of the next administrative review.

These administrative reviews and notice are published in accordance with sections 751(a)(1) and 777(i)(1) of the Act.

Dated: September 29, 2000.
Troy H. Cribb,
Acting Assistant Secretary for Import Administration.

[FR Doc. 00-25789 Filed 10-18-00; 8:45 am]

BILLING CODE 3510-DS-P